DEPARTMENT OF COMMERCE

National Oceanic and Atmospheric Administration

Hydrographic Services Review Panel Meeting

AGENCY: National Ocean Service, National Oceanic and Atmospheric Administration (NOAA), Department of Commerce.

ACTION: Notice of open public meeting.

SUMMARY: The Hydrographic Services Review Panel (HSRP) will hold a public meeting. Public comments are requested in advance or during the meeting. Information about the HSRP meeting, agenda, presentations, webinar, and background documents will be posted online at: https://www.nauticalcharts.noaa.gov/ocs/hsrp/meetings.htm.

DATES: The meeting will be held September 11-13, 2017. The agenda and times are subject to change. For updates, please check online as noted above.

Location: Sheraton Portsmouth, 250 Market Street, Portsmouth, New Hampshire.

FOR FURTHER INFORMATION CONTACT: Lynne Mersfelder-Lewis, HSRP Program Manager, National Ocean Service, Office of Coast Survey, NOAA (N/NSD), 1315 East-West Highway, SSMC3 #6305, Silver Spring, Maryland 20910; telephone: 301-533-0064; email: Lynne.Mersfelder@noaa.gov.

SUPPLEMENTARY INFORMATION: The meeting is open to the public, seating will be available on a first-come, first-served basis, and public comment is encouraged. Public comment periods are scheduled each day and noted in the agenda. Each individual or group making verbal comments will be limited to a total time of five (5) minutes and comments will be recorded. For those not onsite, comments can be submitted in writing via email or during the webinar in writing. Individuals who would like to submit written statements in advance or during the meeting, or who need information on the webinar should email Lynne.Mersfelder@noaa.gov. The HSRP will provide a webinar for which pre-registration is required. Sign-up information for the webinar will be posted online. The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other background information is located online at: http://www.nauticalcharts.noaa.gov/ocs/hsrp/CharterBylawsHSIAStatute.htm. Past HSRP public meeting summary reports, agendas, presentations, transcripts, webinars, and other information are available online at: https://www.nauticalcharts.noaa.gov/ocs/hsrp/meetings.htm.

Matters To Be Considered: The panel is convening to hear Federal, state, regional and local partners, and stakeholders on issues relevant to NOAA's navigation services. The focus will be on national issues of hydrographic research, development, and technology related to autonomous and unmanned systems for navigation and there will also be a session on the Arctic. Navigation services include the data, products, and services provided by the NOAA programs and activities that undertake geodetic observations, gravity modeling, shoreline mapping, bathymetric mapping, hydrographic surveying, nautical charting, tide and water level observations, current observations, and marine modeling. This suite of NOAA products and services support safe and efficient navigation, resilient coasts and communities, and the nationwide positioning information infrastructure to support America's commerce. The Panel will hear from agencies, non-Federal organizations, private sector, and partners about their missions and their use of NOAA's navigation services, what value these services bring, and what improvements could be made. Other matters may be considered such as New England regional navigation concerns including the states of Connecticut, Maine, Massachusetts, New Hampshire, Rhode Island, and Vermont. The agenda is subject to change.

Special Accommodations: This meeting is physically accessible to people with disabilities. Please direct requests for sign language interpretation or other auxiliary aids to Lynne.Mersfelder@noaa.gov by August 28, 2017.

Dated: August 17, 2017.
John Nyberg,
Acting Director, Office of Coast Survey, National Ocean Service, National Oceanic and Atmospheric Administration.

[FR Doc. 2017-17858 Filed 8-22-17; 8:45 am]

BILLING CODE 3510-JE-P